DEPARTMENT OF THE INTERIOR

Bureau of Land Management

[LLCAN03000.L16100000.DO0000.18X; BLM-CA MO# 4500129257]

Notice of Termination of a Resource Management Plan for the Redding and Arcata Field Offices and Associated Environmental Impact Statement, California

AGENCY: Bureau of Land Management, Interior.

ACTION: Notice of termination.

SUMMARY: The Bureau of Land Management (BLM) has cancelled its planning process for the Redding and Arcata Field Offices and the associated Environmental Impact Statement (EIS).

DATES: The planning process is terminated as of the date of publication of this Notice.

FOR FURTHER INFORMATION CONTACT: Alan Bittner, BLM Northern California District Manager, telephone 530-224-2160; address Bureau of Land Management, 6640 Lockheed Drive, Redding, California 96002; email abittner@blm.gov. Persons who use a telecommunications device for the deaf (TDD) may call the Federal Relay Service (FRS) at 1-800-877-8339 to contact Mr. Bittner during normal business hours. FRS is available 24 hours a day, 7 days a week, to leave a message or question. You will receive a reply during normal business hours.

SUPPLEMENTARY INFORMATION: Pursuant to the National Environmental Policy Act (NEPA) and its implementing regulations (40 CFR parts 1500-1508 and 43 CFR part 46), the BLM published a Notice of Intent to prepare an EIS in the Federal Register on November 7, 2016 (81 FR 78182). Due to recent catastrophic wildfires that damaged a significant portion of the planning area, the BLM has chosen to focus on fire recovery efforts at this time. The BLM has now terminated the planning process and the associated NEPA process. No EIS or Record of Decision will be issued.

(Authority: 40 CFR 1506.6)

Joe Stout,
Acting BLM California State Director.

[FR Doc. 2019-06744 Filed 4-4-19; 8:45 am]

BILLING CODE 4310-40-P